DEPARTMENT OF ENERGY

Federal Energy Regulatory Commission

Combined Notice of Filings #1

Take notice that the Commission received the following electric corporate filings:

Docket Numbers: EC24-53-000.

Applicants: Dunns Bridge Energy Storage, LLC.

Description: Joint Application for Authorization Under Section 203 of the Federal Power Act of Dunns Bridge Energy Storage, LLC, et al.

Filed Date: 3/5/24.

Accession Number: 20240305-5250.

Comment Date: 5 p.m. ET 3/26/24.

Docket Numbers: EC24-56-000.

Applicants: Burgess Biopower, LLC, North Country Generation Holdings LLC.

Description: Joint Application for Authorization Under Section 203 of the Federal Power Act of Burgess BioPower, LLC, et al.

Filed Date: 3/5/24.

Accession Number: 20240305-5253.

Comment Date: 5 p.m. ET 3/26/24.

Take notice that the Commission received the following electric rate filings:

Docket Numbers: ER12-2708-010.

Applicants: PJM Interconnection, L.L.C., Potomac-Appalachian Highline Transmission, LLC.

Description: Refund Report: Potomac-Appalachian Highline Transmission, LLC submits tariff filing per 35.19a(b): Potomac-Appalachian submits Refund Report in Docket No. ER12-2708 to be effective N/A.

Filed Date: 3/6/24.

Accession Number: 20240306-5069.

Comment Date: 5 p.m. ET 3/27/24.

Docket Numbers: ER21-2722-001.

Applicants: E. BarreCo Corp LLC.

Description: Refund Report: Refund report to be effective N/A.

Filed Date: 3/6/24.

Accession Number: 20240306-5105.

Comment Date: 5 p.m. ET 3/27/24.

Docket Numbers: ER24-227-002.

Applicants: RPC Power, LLC.

Description: Tariff Amendment: Response to Deficiency Letter-Indicative Screens (ER24-227-) to be effective 1/20/2024.

Filed Date: 3/6/24.

Accession Number: 20240306-5134.

Comment Date: 5 p.m. ET 3/27/24.

Docket Numbers: ER24-1412-000.

Applicants: OhmConnect, Inc.

Description: 205(d) Rate Filing: Normal filing 2024 to be effective 3/6/2024.

Filed Date: 3/5/24.

Accession Number: 20240305-5214.

Comment Date: 5 p.m. ET 3/26/24.

Docket Numbers: ER24-1415-000.

Applicants: AEP Texas Inc.

Description: 205(d) Rate Filing: AEPTX-Louise Solar 1st A&R Generation Interconnection Agreement Cancellation to be effective 3/16/2024.

Filed Date: 3/6/24.

Accession Number: 20240306-5052.

Comment Date: 5 p.m. ET 3/27/24.

Docket Numbers: ER24-1416-000.

Applicants: AEP Texas Inc.

Description: 205(d) Rate Filing: AEPTX-Buckeye Corpus Christi Generation Interconnection Agreement Cancellation to be effective 4/8/2024.

Filed Date: 3/6/24.

Accession Number: 20240306-5057.

Comment Date: 5 p.m. ET 3/27/24.

Docket Numbers: ER24-1417-000.

Applicants: American Electric Power Service Corporation, PJM Interconnection, L.L.C.

Description: 205(d) Rate Filing: American Electric Power Service Corporation submits tariff filing per 35.13(a)(2)(iii: AEP submits one Facilities Agreement re: ILDSA, No. 1262 to be effective 6/1/2024.

Filed Date: 3/6/24.

Accession Number: 20240306-5078.

Comment Date: 5 p.m. ET 3/27/24.

Docket Numbers: ER24-1420-000.

Applicants: Sierra Estrella Energy Storage LLC.

Description: Baseline eTariff Filing: Application for MBR Authorization and Request for Waivers to be effective 3/18/2024.

Filed Date: 3/6/24.

Accession Number: 20240306-5155.

Comment Date: 5 p.m. ET 3/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 6, 2024.
Debbie-Anne A. Reese,
Acting Secretary.

[FR Doc. 2024-05231 Filed 3-11-24; 8:45 am]

BILLING CODE 6717-01-P